FEDERAL COMMUNICATIONS COMMISSION

Sunshine Act Meeting; FCC To Hold Open Commission Meeting; Wednesday, May 14, 2008

May 7, 2008.

The Federal Communications Commission will hold an Open Meeting on the subjects listed below on Wednesday, May 14, 2008, which is scheduled to commence at 9:30 a.m. in Room TW-C305, at 445 12th Street, SW., Washington, DC.

Item No. | Bureau | Subject
1 | Wireless Telecommunications | Title: Implementation of Sections 309(j) and 337 of the Communications Act of 1934 as Amended (WT Docket No. 99-87); Promotion of Spectrum Efficient Technologies on Certain Part 90 Frequencies (RM-9332).
|  | Summary: The Commission will consider a Fourth Memorandum Opinion and Order addressing a petition for reconsideration and a request for clarification of the Third Report and Order.
2 | Wireless Telecommunications & Public Safety & Homeland Security | Title: Service Rules for the 698-746, 747-762 and 777-792 MHz Bands (WT Docket No. 06-150); Implementing a Nationwide, Broadband, Interoperable Public Safety Network in the 700 MHz Band (PS Docket No. 06-229).
|  | Summary: The Commission will consider a Second Further Notice of Proposed Rulemaking seeking comment on rules governing the Upper 700 MHz D Block, the public safety broadband spectrum, and the 700 MHz Public/Private Partnership.
*The summaries listed in this notice are intended for the use of the public attending open Commission meetings. Information not summarized may also be considered at such meetings. Consequently, these summaries should not be interpreted to limit the Commission's authority to consider any relevant information.

Open captioning will be provided for this event. Other reasonable accommodations for people with disabilities are available upon request. Include a description of the accommodation you will need including as much detail as you can. Also include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (TTY).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc., (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. 08-1252 Filed 5-8-08; 12:48 pm]

BILLING CODE 6712-01-P